FEDERAL MARITIME COMMISSION

[Docket No. 22-11]

Notice of Filing of Complaint and Assignment; Aeneas Exporting LLC, Complainant v. Honeybee International Inc., and All America Shipping, Respondent

Notice is given that a complaint has been filed with the Federal Maritime Commission (Commission) by Aeneas Exporting LLC, hereinafter “Complainant”, against Honeybee International Inc. and All America Shipping, hereinafter “Respondents”. Complainant alleges that Respondents are California corporations and an ocean common carrier, non-vessel-operating common carrier, ocean freight forwarder, and ocean transportation intermediary.

Complainant alleges that Respondents violated 46 U.S.C. 41102(c) and 41104(a)(3), 46 CFR 545.4, and “Fraud and Coercion” regarding the receipt, handling, storing, and delivery of vehicles and assessment of charges and fees. The full text of the complaint can be found in the Commission's Electronic Reading Room at https://www2.fmc.gov/readingroom/proceeding/22-11/.

This proceeding has been assigned to Office of Administrative Law Judges. The initial decision of the presiding office in this proceeding shall be issued by April 10, 2023, and the final decision of the Commission shall be issued by October 24, 2023.

Served: April 8, 2022.
William Cody,
Secretary.

[FR Doc. 2022-07870 Filed 4-12-22; 8:45 am]

BILLING CODE 6730-02-P